DEPARTMENT OF JUSTICE

Notice of Lodging of a Consent Decree Under the Comprehensive Environmental Response, Compensation and Liability Act

Notice is hereby given that on December 21, 2006 a proposed Consent Decree “Consent Decree” in United States v. Ashland Inc. et. al, Civil Action No. 06-1378 was lodged with the United States District Court for the District of Kansas.

In this action the United States sought recovery of costs incurred by the Environmental Protection Agency in responding to the release and threat of release of hazardous substances at the Chemical Commodities Inc. Superfund Site in Olathe, Johnson County, Kansas. Under the Consent Decree, the Defendants and Settling Federal Agencies will reimburse the Untied States and each other for the past costs incurred through December 31, of 2000.

The Department of Justice will receive for a period of thirty (30) days from the date of this publication comments relating to the Consent Decree. Comments should be addressed to the Assistant Attorney General, Environment and Natural Resources Division, P.O. Box 7611, U.S. Department of Justice, Washington, DC 20044-7611, and should refer to United States. v. Ashland, Inc. D.J. Ref. 90-11-3-1686. The Consent Decree may be examined at the Office of the United States Attorney, District of Kansas, Suite 1200, 301 No. Main Street, Wichita, Kansas. During the public comment period, the Consent Decree may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy for the Consent Decree Library, please enclose a check in the amount of $9.00 (25 cents per page reproduction cost) payable to the U.S. Treasury or, if by e-mail or fax, forward a check in that amount to the Consent Decree Library at the stated address.

Robert E. Maher, Jr.,
Assistant Section Chief, Environmental Enforcement Section, Environment and Natural Resources Division.

[FR Doc. 06-9919 Filed 12-28-06; 8:45 am]

BILLING CODE 4410-15-Mt